DEPARTMENT OF TRANSPORTATION

Federal Motor Carrier Safety Administration

Sunshine Act Meetings; Unified Carrier Registration Plan Board of Directors

TIME AND DATE: The meetings will occur on the following schedule and will take place in the Eastern (Daylight) Time Zone:

Sunday, June 3, 2018

9:45 a.m.-10:30 a.m.: Procedures Subcommittee

10:30 a.m.-11:00 a.m.: Audit Subcommittee

11:00 a.m.-11:30 a.m.: Finance Subcommittee

11:30 a.m.-12:00 Noon: Registration System Subcommittee

12:00 Noon-12:30 p.m.: Dispute Resolution Subcommittee

Tuesday, June 5, 2018

10:15 a.m.-10:35 a.m.: Procedures Subcommittee

10:35 a.m.-10:55 a.m.: Audit Subcommittee

10:55 a.m.-11:20 a.m.: Finance Subcommittee

11:20 a.m.-11:40 a.m.: Registration System Subcommittee

11:40 a.m.-12:00 Noon: Dispute Resolution Subcommittee

Wednesday, June 6, 2018

The Board meeting will be held from 12:00 noon to 3:00 p.m.

PLACE: These meetings will be open to the public at the Sonesta Ft. Lauderdale Beach Blvd. Hotel, 999 Ft. Lauderdale, FL 33304, and via conference call. Those not attending the meetings in person may call toll-free 1-877-422-1931, passcode 2855443940, to listen and participate in the meetings.

STATUS: Open to the public.

MATTERS TO BE CONSIDERED: The Unified Carrier Registration Plan Board of Directors (the Board) will continue its work in developing and implementing the Unified Carrier Registration Plan and Agreement and to that end, may consider matters properly before the Board. An agenda for these meetings will be available no later than 5:00 p.m. Eastern Daylight Time, May 25, 2018 at: https://ucrplan.org.

CONTACT PERSON FOR MORE INFORMATION: Mr. Avelino Gutierrez, Chair, Unified Carrier Registration Board of Directors at (505) 827-4565.

Issued on: May 25, 2018.
Larry W. Minor,
Associate Administrator, Office of Policy, Federal Motor Carrier Safety Administration.

[FR Doc. 2018-11765 Filed 5-29-18; 11:15 am]

BILLING CODE 4910-EX-P